DEPARTMENT OF TRANSPORTATION

Federal Aviation Administration

14 CFR Part 39

[Docket No. FAA-2006-24440; Directorate Identifier 2006-NM-058-AD]

RIN 2120-AA64

Airworthiness Directives; Empresa Brasileira de Aeronautica S.A. (EMBRAER) Model EMB-145XR Airplanes

AGENCY: Federal Aviation Administration (FAA), Department of Transportation (DOT).

ACTION: Supplemental notice of proposed rulemaking (NPRM); reopening of comment period.

SUMMARY: The FAA is revising an earlier NPRM for an airworthiness directive (AD) that applies to certain EMBRAER Model EMB-145XR airplanes. The original NPRM would have required replacement of certain segments of the passenger seat tracks with new, improved seat tracks. The original NPRM resulted from instances where the shear plungers of the passenger seat legs were not adequately fastened. This action revises the original NPRM by requiring new service information. We are proposing this supplemental NPRM to prevent inadequate fastening of the seat leg shear plungers, which could result in failure of the passenger seat tracks during emergency landing conditions and consequent injury to passengers.

DATES: We must receive comments on this supplemental NPRM by September 5, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to submit any relevant written data, views, or arguments regarding this supplemental NPRM. Send your comments to an address listed in the ADDRESSES section. Include the docket number “Docket No. FAA-2006-24440; Directorate Identifier 2006-NM-058-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain EMBRAER Model EMB-145XR airplanes. The original NPRM was published in the Federal Register on April 13, 2006 (71 FR 19142). The original NPRM proposed to require replacement of certain segments of the passenger seat tracks with new, improved seat tracks.

Since the original NPRM was issued, the Departamento de Aviação Civil (DAC), which is the airworthiness authority for Brazil, has issued Brazilian airworthiness directive 2006-01-01R1, effective May 23, 2006. (We referenced Brazilian airworthiness directive 2006-01-01, effective February 2, 2006, as related information in the original NPRM.) The DAC issued Brazilian airworthiness directive 2006-01-01R1 to correct the airplane model designation and typographical error to a certain part number (P/N). Therefore, we have revised paragraph (i) of this supplemental NPRM to reference Brazilian airworthiness directive 2006-01-01R1 as related information. However, no change to the airplane model designation in this supplemental NPRM is necessary, since we differed from Brazilian airworthiness directive 2006-01-01, as explained in the original NPRM.

In addition, EMBRAER has published Revision 01 of EMBRAER Service Bulletin 145-53-0059, dated March 9, 2006, to correct the typographical error to a P/N in Figure 4 of the original issue of the service bulletin. (We referenced the original issue, dated July 1, 2005, in the original NPRM as the appropriate source of service information.) The procedures in Revision 01 of the service bulletin are essentially the same as those in the original issue, except that Figure 4 of Revision 01 specifies removing P/N 145-53769-007 at fuselage location x=14,827.8 and replacing it with P/N 145-38912-003. Therefore, we have revised paragraphs (c) and (f) of this supplemental NPRM to reference Revision 01 of the service bulletin.

Comments

We have considered the following comments on the original NPRM.

Request to Reference Revision 01 of the Service Bulletin

EMBRAER requests that we revise paragraphs (c) and (f) of the NPRM to reference Revision 01 of EMBRAER Service Bulletin 145-53-0059, dated March 9, 2006. EMBRAER states that Revision 01 has been issued to correct a certain part number.

We agree. As stated previously, we have revised this supplemental NPRM to reference Revision 01 of the service bulletin.

Request To Reference New Brazilian Airworthiness Directive

EMBRAER states that the DAC has issued Brazilian airworthiness directive 2006-01-01R1, effective May 23, 2006, to correct the airplane applicability and the part number discussed previously. Therefore, EMBRAER requests that we revise paragraph (h) of the NPRM to reference Brazilian airworthiness directive 2006-01-01R1.

We agree. As stated previously we have revised paragraph (h) of this supplemental NPRM to reference Brazilian airworthiness directive 2006-01-01R1. No change to the applicability of this supplemental NPRM is necessary, since we differed from Brazilian airworthiness directive 2006-01-01, as explained in the original NPRM.

Request To Give Credit for the Original Issue of the Service Bulletin

EMBRAER states that actions accomplished before the effective date of the AD in accordance with the original issue of EMBRAER Service Bulletin 145-53-0059, dated July 1, 2005, are acceptable for compliance with actions done in accordance with Revision 01. We infer EMBRAER requests that we add a credit paragraph to this supplemental NPRM for accomplishment of the original service bulletin.

We disagree. Since Figure 4 of the original service bulletin incorrectly specifies removing P/N 145-53769-003 at fuselage location x=14,827.8, this supplemental NPRM would require additional work (i.e., removing P/N 145-53769-007 at fuselage location x=14,827.8). Further, EMBRAER has confirmed that although P/N 145-53769-003 does not exist at fuselage location x=14,827.8, it does exist elsewhere on the airplane; this could cause confusion in accomplishing the service bulletin. Therefore, we have not revised this supplemental NPRM is this regard.

FAA's Determination and Proposed Requirements of the Supplemental NPRM

Certain changes discussed above expand the scope of the original NPRM; therefore, we have determined that it is necessary to reopen the comment period to provide additional opportunity for public comment on this supplemental NPRM.

Costs of Compliance

This supplemental NPRM would affect about 97 airplanes of U.S. registry. The proposed actions would take about 10 work hours per airplane, at an average labor rate of $80 per work hour. Required parts would cost about $82 per airplane. Based on these figures, the estimated cost of this supplemental NPRM on U.S. operators is $85,554, or $882 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira De Aeronautica S.A. (EMBRAER): Docket No. FAA-2006-24440; Directorate Identifier 2006-NM-058-AD.

Comments Due Date

(a) The FAA must receive comments on this AD action by September 5, 2006.

Affected ADs

(b) None.

Applicability

(c) This AD applies to EMBRAER Model EMB-145XR airplanes, certificated in any category; as identified in EMBRAER Service Bulletin 145-53-0059, Revision 01, dated March 9, 2006.

Unsafe Condition

(d) This AD results from instances where the shear plungers of the passenger seat legs were not adequately fastened. We are issuing this AD to prevent inadequate fastening of the seat leg shear plungers, which could result in failure of the passenger seat tracks during emergency landing conditions and consequent injury to passengers.

Compliance

(e) You are responsible for having the actions required by this AD performed within the compliance times specified, unless the actions have already been done.

Replacement of Passenger Seat Tracks

(f) Within 5,000 flight hours after the effective date of this AD, replace segments of the internal and external passenger seat tracks with new, improved seat tracks, by accomplishing all of the actions specified in the Accomplishment Instructions of EMBRAER Service Bulletin 145-53-0059, Revision 01, dated March 9, 2006.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Brazilian airworthiness directive 2006-01-01R1, effective May 23, 2006, also addresses the subject of this AD.

Issued in Renton, Washington, July 31, 2006.
Ali Bahrami,
Manager, Transport Airplane Directorate, Aircraft Certification Service.

[FR Doc. E6-12832 Filed 8-7-06; 8:45 am]

BILLING CODE 4910-13-P